DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 15, 2007.

Address Comments To: Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dot.gov.

This notice of receipt of applications for special permit is published in accordance with part 107 of the Federal hazardous materials transportation law (49 U.S.C. 5117(b); 49 CFR 1.53(b)).

Issued in Washington, DC, on October 10, 2007.
Delmer F. Billings,
Director, Officer of Hazardous Materials, Special Permits and Approvals.

New Special Permits
Application No. | Docket No. | Applicant | Regulation(s) affected | Nature of special permits thereof
14584-N |  | WavesinSolids LLC State College, PA | 49 CFR 173.302 and 180.209 | To authorize the transportation in commerce of certain cylinders which have been alternatively ultrasonically retested for use in transporting Division 2.1, 2.2 and 2.3 materials. (modes 1, 2, 3, 4, 5).
14585-N |  | Kiddle Aerospace Wilson, NC | 49 CFR 178.65 | To authorize the manufacture, marking, sale and use of certain non-DOT specification cylinders (fire extinguishers) that are used as components on the US Army's Future Combat Systems Manned Ground Vehicles. (mode 1).
14587-N |  | Maxwell Technologies San Diego, CA | 49 CFR 49 CFR parts 171-180 | To authorize the transportation in commerce of certain non-DOT specification packagings (ultracapacitors) containing small amounts of acetonitrile as not subject to the Hazardous Materials Regulations. (modes 1, 2, 3, 4, 5).
14588-N |  | Tulsa Gas Technologies, Inc. Tulsa, OK | 49 CFR 177.834 | To authorize the transportation in commerce of certain DOT 3AA specification cylinders containing compressed natural gas in bundles without removing them from the motor vehicle when loading or unloading. (mode 1).
14589-N |  | Florida Power and Light Co. Jensen Beach, FL | 49 CFR 173.403, 173.427(b), 173.465(c) and (d) | To authorize the transportation in commerce of one Class 7 reactor vessel closure head and two steam generators containing radioactive materials in alternative packaging. (mode 1).
14591-N |  | Essex Cryogenics of MO, Inc. St. Louis, MO | 49 CFR 173.316 | To authorize the manufacture, marking, sale and use of a non-DOT specification cylinder similar to a DOT 4L for the transportation of in commerce of Oxygen, refrigerated liquid. (modes 1, 2, 3, 4, 5).
14592-N |  | Southwest Airlines Co. Dallas, TX | 49 CFR 172.202(a)(6) | To authorize the transportation in commerce of Life-Saving appliances, self-inflating by air when identifying only the gross weight per package on shipping papers. (mode 5).
14593-N |  | American Railcar Industries St. Charles, MO | 49 CFR 180.509 | To authorize the continued transportation in commerce of 23 DOT Specification 111 tank cars that are past their test date by up to 6 months. (mode 2).

[FR Doc. 07-5080 Filed 10-15-07; 8:45 am]

BILLING CODE 4909-60-M